DEPARTMENT OF HOMELAND SECURITY

Coast Guard

33 CFR Part 117

[CGD05-03-095]

RIN 1625-AA09

Drawbridge Operation Regulations; Chincoteague Channel, VA

AGENCY: Coast Guard, DHS.

ACTION: Notice of temporary deviation from regulations; request for comments.

SUMMARY: The Commander, Fifth Coast Guard District, has issued a temporary deviation from the regulations governing the operation for the existing SR 172 drawbridge across the Chincoteague Channel, mile 3.5, at Chincoteague, Virginia. This temporary deviation will test a proposed change to the drawbridge operation schedule and help determine whether a permanent change to the regulations is reasonable. This temporary deviation will allow the Chincoteague Channel Bridge to remain in the closed position from 7 a.m. to 5 p.m. on July 30 and on July 31, 2003. This temporary deviation is necessary to facilitate public safety during the Annual Pony Swim.

DATES: This deviation is effective from 7 a.m. on July 30, to 5 p.m. on July 31, 2003. Comments must be received by September 12, 2003.

ADDRESSES: You may mail comments to Commander (oan-b), Fifth Coast Guard District, 431 Crawford Street, Portsmouth, Virginia 23704, or deliver them to the same address between 8 a.m. and 4 p.m., Monday through Friday, except Federal holidays. The Commander, Fifth Coast Guard District (oan-b), maintains the public docket for this rulemaking. Comments and materials received from the public, as well as documents indicated in this preamble as being available in the docket, will become part of this docket and will be available for inspection or copying at the above address.

FOR FURTHER INFORMATION CONTACT: Linda L. Bonenberger, Bridge Management Specialist, Fifth Coast Guard District, at (757) 398-6227.

SUPPLEMENTARY INFORMATION:

Request for Comments

We encourage you to participate in this rulemaking submitting comments or related material. If you do so, please include your name and address, identify the docket number for this rulemaking (CGD05-03-095), indicate the specific section of this document to which each comment applies, and give the reason for each comment. Please submit all comments and related material in an unbound format, no larger than 8½ by 11 inches, suitable for copying. If you would like to know if they reached us, please enclose a stamped, self-addressed postcard or envelope. We will consider all comments and material received during the comment period. Comments must be received by September 12, 2003.

Background and Purpose

The Town of Chincoteague has requested a temporary deviation from the current operating regulation set out in 33 CFR 117.5 that requires the drawbridge to open promptly and fully for the passage of vessels when a request to open is given.

The purpose of the closure is for the Annual Pony Swim across the Assateague Channel between Assateague Island and Chincoteague that takes place every year on the last Wednesday and Thursday in July. The herd is owned by the Chincoteague Volunteer Fire Department and managed by the National Park Service. This annual event began in the 1700's, but in 1925 the Fire Department took over the event that is also referred to as the Chincoteague Volunteer Fireman's Carnival. The proceeds from the auctioning of the ponies provide a source of revenue for the fire company and it also serves to trim the herd's numbers. On Wednesday, July 30, 2003, the ponies will be lead across the Assateague Channel from Assateague Island to Chincoteague where they will be auctioned off. On Thursday, July 31, 2003, the remaining ponies will be lead back across the channel to Assateague Island. Due to the high volume of spectators that attend this yearly event, it is necessary to close the draw span on each of these days between the hours of 7 a.m. to 5 p.m. to ensure the safety of the ponies and to vehicular traffic congestion on this small island as a result of drawbridge openings. The drawbridge will resume opening on demand after 5 p.m. on July 30, 2003, to 7 a.m. on July 31, 2003. After 5 p.m. on July 31, 2003, the bridge will once again resume normal operation.

Under this temporary deviation, the Chincoteague Channel Bridge may remain in the closed position from 7 a.m. to 5 p.m. on Wednesday, July 30, 2003, and on Thursday, July 31, 2003.

Since the Pony Swim is a well-known annual event that occurs on the last Wednesday and Thursday in July every year, and is publicly advertised, vessel operators can arrange their transits to minimize any impact caused by the temporary deviation.

This deviation from the operating regulations is authorized under 33 CFR 117.43, and comments and information gathered during the comment period will assist the Coast Guard in determining if this test operating schedule is reasonable and should be made a permanent addition to the drawbridge operation regulations.

Dated: July 9, 2003.
Waverly W. Gregory, Jr.,
Chief, Bridge Administration Section, Fifth Coast Guard District.

[FR Doc. 03-17989 Filed 7-15-03; 8:45 am]

BILLING CODE 4910-15-P